ENVIRONMENTAL PROTECTION AGENCY

[FRL OP-OFA-198]

Environmental Impact Statements; Notice of Availability

Responsible Agency: Office of Federal Activities, General Information 202-993-3272 or https://www.epa.gov/nepa.

Weekly receipt of Environmental Impact Statements (EIS)

Filed September 22, 2025 10 a.m. EST Through November 17, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250138, Draft, NRCS, IA, Clarke County Water Supply Project, Comment Period Ends: 12/22/2025, Contact: Michael Cagle 515-323-2211.

EIS No. 20250139, Final, USCG, USA, USAF, USN, HI, Hawaii-California Training and Testing, Contact: Alex Stone 808-226-3896.

EIS No. 20250140, Draft, NRC, TN, TRISO-X Special Nuclear Material License Application for a Fuel Fabrication Facility, Comment Period Ends: 12/08/2025, Contact: Jill Caverly 301-415-7674.

EIS No. 20250141, Draft, FERC, WY, Hydropower License re Seminoe Pumped Storage Project, Comment Period Ends: 01/02/2026, Contact: Office of External Affairs 866-208-3372.

EIS No. 20250142, Draft, NRCS, UT, Gould Wash Flood Protection Project, Comment Period Ends: 01/05/2026, Contact: Anders Fillerup 385-245-7709.

EIS No. 20250143, Final, BLM, TN, ADOPTION—Ridgeline Expansion Project, Contact: Shayne Banks 601-919-4652.

The Bureau of Land Management (BLM) has adopted the Federal Energy Regulatory Commission's Final EIS No. 20240243 filed 12/20/2024 with the Environmental Protection Agency.

EIS No. 20250144, Final, OSM, WY, Black Butte Coal Company Federal Lease WYW-6266 Mining Plan Modification, Contact: Marcelo Calle 303-236-2929.

EIS No. 20250145, Final, BLM, UT, Lisbon Valley Mining Company Copper Mine Plan of Operations Modification Project, Contact: Jill Stephenson 435-259-2100.

EIS No. 20250146, Final, BLM, ID, Caldwell Canyon Revised Mine and Reclamation Plan, Contact: Barry Myers 208-559-3662.

EIS No. 20250147, Final, USACE, CA, Delta Conveyance Project Final Programmatic Environmental Impact Statement, Review Period Ends: 11/24/2025, Contact: Leah M. Fisher 916-557-6639.

EIS No. 20250148, Final, FHWA, GA, I-285 Top End Express Lanes, Contact: Sabrina David 404-562-3630.

EIS No. 20250149, Draft, FHWA, NC, Independence Boulevard Extension, Comment Period Ends: 01/16/2026, Contact: Clarence W. Coleman, P.E. 919-747-7014.

EIS No. 20250150, Final, USAF, CA, Authorizing Changes to the Falcon Launch Program at Vandenberg Space Force Base, California, Contact: Hilary Rummel 805-606-3595.

EIS No. 20250151, Draft Supplement, NRC, TN, Supplemental Environmental Impact Statement for a Construction Permit at the Clinch River Nuclear Site, Comment Period Ends: 12/22/2025, Contact: Madelyn Nagel 301-415-0371.

EIS No. 20250153, Final, DOC, NY, Micron Semiconductor Manufacturing Facility, Clay, NY, Contact: David Frenkel 240-204-1960.

EIS No. 20250154, Draft Supplement, USACE, MI, Enbridge Line 5 Tunnel Project Supplemental Draft EIS—Horizontal Directional Drilling Installation Alternative, Comment Period Ends: 12/05/2025, Contact: Katie Otanez 313-226-5479.

EIS No. 20250155, Draft, FHWA, CO, I-270 Corridor Improvements Project, Comment Period Ends: 01/20/2026, Contact: Bill Schiebel 720-963-3032.

EIS No. 20250156, Draft, FHWA, MA, Cape Cod Bridges Program, Bourne, Massachusetts, Comment Period Ends: 01/05/2026, Contact: Kenneth Miller, P.E. 617-494-2164.

Dated: November 19, 2025.
Nancy Abrams,
Deputy Director, Federal Activities Division.

[FR Doc. 2025-20586 Filed 11-20-25; 8:45 am]

BILLING CODE 6560-50-P